FEDERAL COMMUNICATIONS COMMISSION

Sunshine Act Meeting; Deletion of Agenda Item From October 14, 2004, Open Meeting

October 14, 2004.

The following items have been deleted from the list of Agenda items scheduled for consideration at the October 14, 2004, open meeting and previously listed in the Commission's Notice of October 7, 2004.

Item No. | Bureau | Subject
5 | Wireline Competition | Title: The Pay Telephone Reclassification and Compensation Provisions of the Telecommunications Act of 1996 (CC Docket No. 96-128).
|  | Summary: The Commission will consider an Order on Reconsideration concerning its payphone compensation rules.
6 | Wireline Competition | Title: Petition of Mid-Rivers Telephone Cooperative, Inc. for Order Declaring it to be an Incumbent Local Exchange Carrier in Terry, Montana Pursuant to Section 251(h)(2) (WC Docket No. 02-78).
|  | Summary: The Commission will consider a Notice of Proposed Rulemaking concerning section 251 (h)(2) of the Communications Act of 1934, as amended.

Federal Communications Commission.
Marlene H. Dortch,
Secretary.

[FR Doc. 04-23460 Filed 10-15-04; 12:52 pm]

BILLING CODE 6712-01-P